DEPARTMENT OF ENERGY

Federal Energy Regulatory Commission

[Docket No. ER99-1722-004]

Williams Energy Marketing & Trading Company; Notice of Filing

March 15, 2001.

Take notice that on March 12, 2001, Williams Energy Marketing & Trading Company (WEM&T) a power marketer selling electric power at wholesale pursuant to market-based rate authority granted to it by the Federal Energy Regulatory Commission, tendered for filing an updated market power analysis in compliance with Commission's March 10, 1995, Letter Order in Docket No. ER95-305-000.

Any person desiring to be heard or to protest such filing should file a motion to intervene or protest with the Federal Energy Regulatory Commission, 888 First Street, NE., Washington, DC 20426, in accordance with Rules 211 or 214 of the Commission's Rules of Practice and Procedure (18 CFR 385.211 and 385.214). All such motions and protests should be filed on or before April 2, 2001. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

Linwood A. Watson, Jr.
Acting Secretary.

[FR Doc. 01-7525 Filed 3-26-01; 8:45 am]

BILLING CODE 6717-01-M